DEPARTMENT OF JUSTICE

Notice of Lodging of Proposed Consent Decree and Proposed First Amendment to Another Consent Decree Under the Clean Air Act

On November 10, 2016, the Department of Justice lodged a proposed Consent Decree with the United States District Court for the Northern District of Illinois in the lawsuit entitled United States v. CITGO Petroleum Corp., et al., Civil Action No. 16 C 10484. In a related filing, on that same date, the Department of Justice lodged a proposed First Amendment to Consent Decree with the United States District Court for the Southern District of Texas in the lawsuit entitled United States, et al. v. CITGO Petroleum Corp., et al., Civil Action No. 4:04-cv-3883.

Under the proposed Consent Decree lodged with the Northern District of Illinois (“Lemont Refinery Consent Decree”), CITGO will install low nitrogen oxide burners on three heaters at one of its refineries in Lemont, Illinois (“Lemont Refinery”); comply with a stringent limit for particulate matter emissions from the Lemont Refinery's fluid catalytic cracking unit; develop and implement operation and maintenance plans to improve operations and prevent violations at the Lemont Refinery's sulfur recovery plant; implement a flare minimization and flare efficiency program; implement an enhanced leak detection and repair program; and use carbon canisters to control benzene emissions from purged process fluids and samples. CITGO also will implement a $650,000 fence line monitoring supplemental environmental project and a $350,000 “green lighting” supplemental environmental project at the local school district. As a mitigation project, CITGO will control a benzene waste stream that it is not otherwise required to control at a cost of approximately $1.14 million. CITGO will pay a civil penalty of $1,955,000.

Under the proposed First Amendment to Consent Decree lodged with the Southern District of Texas (“First Amendment”), a consent decree that the Southern District of Texas entered in 2005 (“2005 Consent Decree”) that covered six refineries that CITGO then owned will be amended to terminate all provisions therein related to the Lemont Refinery. CITGO demonstrated to EPA that it had complied with the vast majority of the 2005 Consent Decree provisions related to the Lemont Refinery and CITGO agreed to have the remaining few, outstanding provisions transferred to the new, stand-alone Lemont Refinery Consent Decree filed in the Northern District of Illinois. Under the First Amendment, CITGO will also pay a stipulated penalty of $323,500, split equally between the United States and Illinois, for alleged violations of the 2005 Consent Decree at the Lemont Refinery.

The publication of this notice opens a period for public comment on the Lemont Refinery Consent Decree and the First Amendment to the 2005 Consent Decree. Comments should be addressed to the Assistant Attorney General, Environment and Natural Resources Division, and should refer to United States v. CITGO Petroleum Corp. et al., D.J. Ref. No. 90-5-2-1-07277/4. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Lemont Refinery Consent Decree and the First Amendment may be examined and downloaded at this Justice Department Web site: https://www.justice.gov/enrd/consent-decrees. We will provide a paper copy of the Lemont Refinery Consent Decree and/or the First Amendment to the 2005 Consent Decree upon written request and payment of reproduction costs. Please mail your request and payment to: Consent Decree Library, U.S. DOJ—ENRD, P.O. Box 7611, Washington, DC 20044-7611.

For the Lemont Refinery Consent Decree, please enclose a check or money order for $68.00 (25 cents per page reproduction cost) payable to the United States Treasury. For the First Amendment to the 2005 Consent Decree, please enclose a check or money order for $2.00 (25 cents per page reproduction cost) payable to the United States Treasury. For both, one check or money order in the amount of $70.00 can be enclosed.

Robert D. Brook,
Assistant Section Chief, Environmental Enforcement Section, Environment and Natural Resources Division.

[FR Doc. 2016-27623 Filed 11-16-16; 8:45 am]

BILLING CODE 4410-15-P